DEPARTMENT OF THE TREASURY

31 CFR Part 1

[Docket No. 02-06]

RIN 1557-AB83

Office of the Comptroller of the Currency; Privacy Act of 1974; Implementation

AGENCY: Office of the Comptroller of the Currency, Treasury.

ACTION: Final rule; technical amendment.

SUMMARY: In accordance with the requirements of the Privacy Act of 1974, as amended, the Office of the Comptroller of the Currency (OCC) and the Department of the Treasury (Department) issue a final rule to exempt five OCC systems of records from certain provisions of the Privacy Act. The OCC and the Department also issue a technical amendment made necessary by the renumbering and renaming of one revised system of records that previously had been exempted from certain provisions of the Privacy Act.

EFFECTIVE DATE: May 14, 2002.

FOR FURTHER INFORMATION CONTACT: Harold J. Hansen, Assistant Director, or Ellen S. Warwick, Special Counsel, Administrative & Internal Law Division, (202) 874-4460.

SUPPLEMENTARY INFORMATION: On October 26, 2001, the OCC, with the concurrence of the Department, published a notice of proposed rulemaking to exempt five systems of records from certain provisions of the Privacy Act of 1974, as amended (66 FR 54175-54178, October 26, 2001). This notice of proposed rulemaking was published in the same Federal Register in which the OCC published notices of five new Privacy Act systems of records (66 FR 54327-54333) and proposed alterations to six Privacy Act systems of records (66 FR 54333-54340). The notice of proposed rulemaking reflected that three of the new systems of records would be exempted from provisions of the Privacy Act pursuant to 5 U.S.C. 552a(j)(2), 552a(k)(2), or both. These systems were: (1) Treasury/Comptroller .100-Enforcement Action Report System; (2) Treasury/Comptroller .120-Bank Fraud Information System; and (3) Treasury Comptroller .220-Section 914 Tracking System. This notice also reflected that two of the five altered systems of records would also be exempted from provisions of the Privacy Act pursuant to 5 U.S.C. 552a(j)(2), 552a(k)(2), or both. These systems were: (1) Treasury/Comptroller .016-Litigation Information System, to be renumbered Treasury/Comptroller .510; and (2) Treasury/Comptroller .004-Consumer Complaint Inquiry and Information System, to be renumbered Treasury/Comptroller .600.

The proposed rule requested that public comments be sent to the Office of the Comptroller of the Currency, Public Information Room, 250 E Street, SW., Washington, DC 20219, no later than November 26, 2001.

The OCC did not receive comments on the proposed rule. Accordingly, the OCC and the Department are hereby giving notice that the following systems of records are exempt from certain provisions of the Privacy Act pursuant to 5 U.S.C. 552a(j)(2): (1) Treasury/Comptroller .120-Bank Fraud Information System; and (2) Treasury/Comptroller .510-Litigation Information System. The provisions of the Privacy Act from which exemption is claimed for these systems pursuant to 5 U.S.C. 552a(j)(2) are: 5 U.S.C. 552a(c)(3) and (4); 5 U.S.C. 552a(d)(1), (2), (3), and (4); 5 U.S.C. 552a(e)(1), (2), and (3); 5 U.S.C. 552a(e)(4)(G), (H), and (I); 5 U.S.C. 552a(f); and 5 U.S.C. 552a(g).

Additionally, the following systems of records are exempt from certain provisions of the Privacy Act pursuant to 5 U.S.C. 552a(k)(2): (1) Treasury/Comptroller .100-Enforcement Action Report System; (2) Treasury/Comptroller .120-Bank Fraud Information System; (3) Treasury/Comptroller .220-Section 914 Tracking System; (4) Treasury/Comptroller .510-Litigation Information System; and (5) Treasury/Comptroller .600-Consumer Complaint Inquiry and Information System. The provisions of the Privacy Act from which exemption is claimed for these five systems pursuant to 5 U.S.C. 552a(k)(2) are: 5 U.S.C. 552a(c)(3); 5 U.S.C. 552a(d)(1), (2), (3), and (4); 5 U.S.C. 552a(e)(4)(G), (H), and (I); and 5 U.S.C. 552a(f).

Finally, a technical amendment to the Department's regulation is issued. This amendment relates to a former system of records, i.e., Treasury/Comptroller .013-Enforcement and Compliance Information System, for which notice of proposed revisions, including the renumbering and renaming of the system, was provided on October 26, 2001 (66 FR 54333-54340). The technical amendment removes the former number and name of this revised system from the Department's regulation and replaces it with the system's revised number and name, Treasury/Comptroller .110-Reports of Suspicious Activities.

This rule takes effect immediately upon publication in the Federal Register. The rule imposes no new requirements on national banks or any member of the public ¹ but rather is one means by which the OCC and the Department comply with the Privacy Act. The OCC and the Department find that an immediate effective date will not result in any burden or inconvenience to national banks or members of the public, who have already had adequate notice of the changes contained in the rule.

¹ For this reason, the delayed effective date provision of the Riegle Community Development and Regulatory Improvement Act of 1994, 12 U.S.C. 4802, does not apply.

Accordingly, the OCC and the Department find good cause to conclude that delaying the effective date of this rule is unnecessary. See 5 U.S.C. 553 (Administrative Procedure Act delayed effective date provision).

Regulatory Flexibility Act

Pursuant to section 605(b) of the Regulatory Flexibility Act, 5 U.S.C. 605(b) (RFA), the regulatory flexibility analysis otherwise required under section 604 of the RFA is not required if the OCC and the Department certify that the rule will not have a significant economic impact on a substantial number of small entities and publish their certification and a short, explanatory statement in the Federal Register along with the rule.

Pursuant to section 605(b) of the RFA, the OCC and the Department hereby certify that this final rule will not have a significant economic impact on a substantial number of small entities. The final rule affects only internal agency administration and imposes no duties, obligations, or costs on entities of any size. Accordingly, a regulatory flexibility analysis is not needed.

Unfunded Mandates Reform Act of 1995

Section 202 of the Unfunded Mandates Reform Act of 1995, 2 U.S.C. 1532 (Unfunded Mandates Act), requires that the agency prepare a budgetary impact statement before promulgating any rule likely to result in a Federal mandate that may result in the expenditure by State, local, and tribal governments, in the aggregate, or by the private sector, of $100 million or more in any one year. If a budgetary impact statement is required, section 205 of the Unfunded Mandates Act also requires the agency to identify and consider a reasonable number of regulatory alternatives before promulgating the rule. The OCC and the Department have determined that this final rule will not result in expenditures by State, local, and tribal governments, or by the private sector, of $100 million or more in any one year. Accordingly, the OCC and the Department have not prepared a budgetary impact statement or specifically addressed the regulatory alternatives considered. As noted above, the final rule adds no new requirements.

Executive Order 12866

The OCC and the Department have determined that this final rule is not a significant regulatory action under Executive Order 12866.

List of Subjects

Privacy.

Part 1, subpart C of Title 31 of the Code of Federal Regulations is amended as follows:

PART 1—[AMENDED]

1. The authority citation for part 1 continues to read as follows:

Authority: 5 U.S.C. 301 and 31 U.S.C. 321. Subpart A also issued under 5 U.S.C. 552 as amended. Subpart C also issued under 5 U.S.C. 552a.

2. Section 1.36 of Subpart C is amended as follows:

(a) Paragraph (c)(1)(iii) is amended by removing “CC .013 Enforcement and Compliance Information System” from the table.

(b) Paragraph (c)(1)(iii) is amended by adding “CC .110 Reports of Suspicious Activities,” “CC .120 Bank Fraud Information System,” and “CC .510 Litigation Information System” to the table in numerical order.

(c) Paragraph (g)(1)(iii) is amended by removing “CC .013 Enforcement and Compliance Information System” from the table.

(d) Paragraph (g)(1)(iii) is amended by adding “CC .100 Enforcement Action Report System,” “CC .110 Reports of Suspicious Activities,” “CC .120 Bank Fraud Information System,” “CC .220 Section 914 Tracking System,” “CC .510 Litigation Information System,” and “CC .600 Consumer Complaint Inquiry and Information System” to the table in numerical order.

The additions to § 1.36 read as follows:

§ 1.36 Systems exempt in whole or in part from provisions of 5 U.S.C. 552a and this part.

* * * * *

(c) * * *

(1) * * *

(iii) * * *

Number | System name
CC .110 | Reports of Suspicious Activities.
CC. 120 | Bank Fraud Information System.
CC .510 | Litigation Information System.
* * * * *

(g) * * *

(1) * * *

(iii) * * *

Number | System name
* * * * *
CC. 100 | Enforcement Action Report System.
CC. 110 | Reports of Suspicious Activities.
CC .120 | Bank Fraud Information System.
CC .220 | Section 914 Tracking System.
CC .510 | Litigation Information System.
CC .600 | Consumer Complaint and Inquiry Information System.
* * * * *

Dated: April 22, 2002.
W. Earl Wright, Jr.,
Chief Management and Administrative Programs Officer.

[FR Doc. 02-11886 Filed 5-13-02; 8:45 am]

BILLING CODE 4810-33-P